FEDERAL MEDIATION AND CONCILIATION SERVICE

Privacy Act of 1974; System of Records

AGENCY: Federal Mediation and Conciliation Service

ACTION: Notice of a new system of records.

SUMMARY: The Federal Mediation and Conciliation Service (FMCS) uses this system to manage and apply retention policies to agency records not part of another system. This system also indexes and houses the agency's records for retrieval in case of requests or litigation.

DATES: This system of records will be effective without further notice on September 18, 2024 unless otherwise revised pursuant to comments received. Comments must be received on or before September 18, 2024.

ADDRESSES: You may send comments, identified by FMCS-0013 by any of the following methods:

• Mail: Office of General Counsel, 250 E Street SW, Washington, DC 20427.

• Email: register@fmcs.gov. Include FMCS-0013 on the subject line of the message.

FOR FURTHER INFORMATION CONTACT: Anna Davis, General Counsel, at adavis@fmcs.gov or 202-606-3737.

SUPPLEMENTARY INFORMATION: Collabspace, an Electronic Records Management (ERM) system, is basic to maintaining agency records to comply with NARA standards and records schedules. Collabspace was selected for its ease in management and its integration into Microsoft file management systems. Records managed by this system are housed in Exchange Online, SharePoint, OneDrive and in personal and departmental file shares. All sources are part of the Microsoft Azure Government Community Cloud (GCC).

SYSTEM NAME AND NUMBER:

FMCS-0013 Collabspace Records.

SECURITY CLASSIFICATION:

Unclassified.

SYSTEM LOCATION:

Microsoft Azure Government Community Cloud (GCC) Cloud, US East datacenter. There is no physical location, it is in “the cloud”.

SYSTEM MANAGER(S):

Romona Jones, Records Officer, email rjones@fmcs.gov, call (202) 606-3664, or send mail to Federal Mediation and Conciliation Service, 250 E Street Southwest, Washington, DC 20427, Attn: Romona Jones.

AUTHORITY FOR MAINTENANCE OF THE SYSTEM:

Federal Mediation and Conciliation Service, 29 U.S.C. 172, et seq., Departmental Regulations, 5 U.S.C. 301, Records Management by Federal Agencies, 44 U.S.C. 31, et seq., and Records Management by the Archivist of the United States by the Administrator of the General Services, 44 U.S.C. 29.

PURPOSE(S) OF THE SYSTEM:

Collabspace is a Records Management and Retention system for managing all manner of records produced and maintained by FMCS.

CATEGORIES OF INDIVIDUALS COVERED BY THE SYSTEM:

The categories of individuals covered in the system are FMCS employees and the public.

CATEGORIES OF RECORDS IN THE SYSTEM:

The categories of records maintained in the system include names, email addresses, addresses, phone numbers, employer information, and other information found within agency records.

RECORD SOURCE CATEGORIES:

Information in this system of records is provided by FMCS employees, the public, and other agencies.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed to authorized entities, as is determined to be relevant and necessary, outside the FMCS as a routine use pursuant to 5 U.S.C. 552a(b)(3) as follows:

(a) To disclose pertinent information to the appropriate Federal, State, or local agency responsible for investigating, prosecuting, enforcing, or implementing a statute, rule regulation or order where the record, either alone or in conjunction with other information creates an indication of a violation or potential violation of civil or criminal laws or regulations.

(b) To disclose information to the National Archives and Records Administration (NARA) for use in its records management inspections; to the Government Accountability Office (GAO) for oversight purposes; to the Department of Justice (DOJ) to obtain that department's advice regarding disclosure obligations under the Freedom of Information Act (FOIA); or to the Office of Management and Budget (OMB) to obtain that office's advice regarding obligations under the Privacy Act.

(c) To disclose information to contractors, grantees, experts, consultants, detailees, and other non-Government employees performing or working on a contract, service, or other assignment for the agency when necessary to accompany an agency function related to this system of records.

(d) To officials of labor organizations and employers receiving services pursuant to 29 U.S.C. 172, et seq.

(e) To officials of labor organizations and federal agencies recognized under 5 U.S.C. Chapter 71 upon receipt of a formal request and in accordance with the conditions of 5 U.S.C. 7114 when relevant and necessary to their duties of exclusive representation concerning personnel policies, practices, and matters affecting working conditions.

(f) To disclose information to a Member of Congress or a congressional office in response to an inquiry made on behalf of, and at the request of, an individual who is the subject of the record.

(g) To disclose information in an appropriate proceeding before a court, grand jury, or administrative or adjudicative body or official, when FMCS or other Agency representing FMCS determines the records are relevant and necessary to the proceeding; or in an appropriate proceeding before an administrative or adjudicative body when the adjudicator determines the records to be relevant to the proceeding.

(h) To the Department of Justice, including Offices of the U.S. Attorneys, or another Federal agency representing FMCS in pending or potential litigation or proceedings before any court, adjudicative, or administrative body. Such disclosure is permitted only when it is relevant and necessary to the litigation or proceeding, and one of the following is a party to the litigation or has an interest in such litigation:

(1) FMCS, or any component thereof;

(2) Any employee or former employee of FMCS in their official capacity;

(3) Any employee or former employee of FMCS in their capacity where the Department of Justice or FMCS has agreed to represent the employee;

(4) The United States, a Federal agency, or another party in litigation before a court, adjudicative, or administrative body, upon the FMCS General Counsel's approval, pursuant to 5 CFR part 295 or otherwise.

(i) To any agency, organization, or person for the purposes of performing audit or oversight operations related to the operation of this system of records or for federal ethics compliance purposes as authorized by law, but only information necessary and relevant to such audit or oversight function.

(j) To appropriate agencies, entities, and persons when (1) FMCS suspects or has confirmed that there has been a breach of the system of records, (2) FMCS has determined that as a result of the suspected or confirmed breach there is a risk of harm to individuals, FMCS (including its information systems, programs, and operations), the Federal Government, or national security; and (3) the disclosure made to such agencies, entities, and persons is reasonably necessary to assist in connection with FMCS's efforts to respond to the suspected or confirmed breach or to prevent, minimize, or remedy such harm.

(k) To another Federal agency or Federal entity, when FMCS determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

(l) To a former employee of the Agency for purposes of responding to an official inquiry by a federal, state, or local government entity or professional licensing authority, in accordance with applicable Agency regulations; or facilitating communications with a former employee that may be necessary for personnel-related or other official purposes where the Agency requires information and/or consultation assistance from the former employee regarding a matter within that person's former area of responsibility.

(m) To disclose information to the National Archives and Records Administration (NARA) or the General Services Administration in records management inspections conducted under authority of 44 U.S.C. 2904 and 2906.

POLICIES AND PRACTICES FOR STORAGE OF RECORDS:

These records are maintained electronically, and stored dependent on the policies and procedures of the records and record schedules within the system.

POLICIES AND PRACTICES FOR RETRIEVAL OF RECORDS:

Collabspace has a Discovery search feature which allows for the retrieval of records by metadata or keywords such as name, address, or other identifiers. All searches must be properly authorized by the Office of the General Counsel (OGC) in writing. Only Discovery Administrators have access to the Discovery feature.

POLICIES AND PRACTICES FOR RETENTION AND DISPOSAL OF RECORDS:

All records are retained and disposed of in accordance with General Records Schedule issued by the National Archives and Records Administration (NARA) and the Agency's Comprehensive Schedule approved by NARA to include, but not limited to, administrative, legal, financial, historical, and electronic records.

ADMINSTRATIVE, TECHNICAL, AND PHYSICAL SAFEGUARDS:

Electronic records are housed in a secure, FedRAMP-authorized cloud location that is secured with single-sign-on (SSO) multi-factor authentication. These records all require a username and password for login, are safeguarded in a secured environment, and are maintained in a secure, password-protected electronic system that utilize commensurate safeguards that may include firewalls, intrusion detection and prevention systems, and role-based access controls. All records are protected from unauthorized access through appropriate administrative, operational, and technical safeguards. These safeguards include restricting access to authorized personnel who have a “need to know” and password protection identification features.

RECORD ACCESS PROCEDURES:

Individuals must provide the following information for their records to be located and identified: (1) Full name, (2) Address, and (3) A reasonably identifying description of the record content requested. Requests can be submitted via fmcs.gov/foia/,via email to privacy@fmcs.gov, or via mail to the Privacy Office at FMCS 250 E Street SW, Washington, DC 20427. See 29 CFR 1410.3.

CONTESTING RECORDS PROCEDURES:

Requests for correction or amendment of records, on how to contest the content of any records. Privacy Act requests to amend or correct records may be submitted to the Privacy Office at privacy@fmcs.gov or via mail to the Privacy Office at FMCS 250 E Street SW, Washington, DC 20427. Also, see https://www.fmcs.gov/privacy-policy/. See 29 CFR 1410.6.

NOTIFICATION PROCEDURES:

See 29 CFR 1410.3(a), Individual access requests.

EXEMPTIONS PROMULGATED FOR THE SYSTEM:

None.

HISTORY:

None.

Dated: August 13, 2024.
Alisa Zimmerman,
Deputy General Counsel, Federal Mediation and Conciliation Service.

[FR Doc. 2024-18457 Filed 8-16-24; 8:45 am]

BILLING CODE 6732-01-P